DEPARTMENT OF LABOR

Public Availability of Revised Fiscal Year 2006 Department of Labor Inventories Under the Federal Activities Inventory Reform Act

AGENCY: Department of Labor.

ACTION: Notice of revised public availability of Department of Labor inventory of activities that are not inherently governmental and of activities that are inherently governmental

SUMMARY: The Federal Activities Inventory Reform (FAIR) Act, Public Law 105-270, requires agencies to develop inventories each year of activities performed by their employees that are not inherently governmental—i.e., inventories of commercial activities. The FAIR Act further requires the Office of Management and Budget (OMB) to review the inventories in consultation with the agencies and publish a notice of public availability in the Federal Register after the consultation process is completed. Interested parties who disagree with an agency's initial judgment may challenge the inclusion or the omission of an activity on the list of activities within 30 working days and, if not satisfied with this review, may appeal to a higher level within the agency.

A notice of the first release of the Department of Labor's (DOL's) FY 2006 inventories was published by the OMB in the Federal Register on May 2, 2007. See 72 FR 24340-24341. As indicated in OMB's May 2007 notice, the FY 2006 inventory prepared by the DOL was released in connection with the first notice of public availability. However, following the initial release of its inventory, DOL made revisions to its inventory as a result of a challenge by the Nation Council of Field Labor Locals (NCFLL), available pursuant to this notice.

The DOL Office of Competitive Sourcing has made available a summary of the revisions, as well as the complete original and revised FY 2006 inventories, through its Internet site at http://www.dol.gov/oasam/programs/boc/comp-sourcing/index.htm. Additionally, the Office of Federal Procurement Policy within the OMB has made available a FAIR Act User's Guide through its Internet site: http://www.whitehouse.gov/omb/procurement/fair-index.html. This User's Guide may help interested parties review DOL's FY 2006 inventories.

Edward C. Hugler,
Deputy Assistant Secretary for Administration and Management.

[FR Doc. E7-17789 Filed 9-10-07; 8:45 am]

BILLING CODE 4510-23-P